DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance
[2/3/2011 through 2/23/2011]
Firm name | Address | Date accepted for investigation | Products
Boston Retail Products, Inc | 400 Riverside Avenue, Medford, MA 02155 | 07-Feb-11 | The firm designs and manufactures a wide variety of custom and in-stock solutions for retail and non-retail environments. Their display, power and protection solutions include fixture, floor and wall damage protection, and home center merchandising.
Dependable Glass Works, Inc | 509 E. Gibson Street, Covington, LA 70433 | 11-Feb-11 | The firm manufactures various products for industrial and home use out of tempered glass.
Gold Leaf Design Group | 1300 S. Koster Ave, Chicago, IL 60623 | 11-Feb-11 | The firm designs, manufactures, and assembles decorative accessories and arts such as permanent botanical displays, decorative vessels, home décor products, and interior accents.
Lutco, Inc | 677 Cambridge Street, Worcester, MA 01610 | 11-Feb-11 | The firm manufactures radial ball bearings, thrust ball bearings, housed bearing assemblies, flangettes/pillow blocks, metal stampings and custom products.
Martin David, Inc | 68-B Winter Street, Holyoke, MA 01040 | 11-Feb-11 | The firm manufactures machined parts and components such as assault rifle handguards, gun sights front and rear, sling and strap attachments for military weapons, and barrel nuts.
Paul Schurman Machine, Inc | 23201 NE 10th Avenue (PO Box 999), Ridgefield, WA 98642 | 11-Feb-11 | The firm manufactures pulp and paper forming and centrifugal pump machinery and parts.
Precast Specialties Corporation | 999 Adams Street (PO Box 86), Abington, MA 02351 | 08-Feb-11 | The firm custom manufacturers concrete architectural panels, curbs, hand holes, pull boxes, light bases, and bumper logs.
Richards Sheet Metal Works, Inc | 2680 Industrial Drive, Ogden, UT 84401 | 14-Feb-11 | The firm manufactures structural fabricated metal products for transportation, mining and industrial machinery.
Supreme Manufacturing Company, Inc. dba C&L Supreme | 1755 Birchwood Avenue, Des Plaines, IL 60018 | 11-Feb-11 | The firm manufactures precision machined CNC components for the packaging, scanning, and control industries.
Western Forms, Inc | 6200 Equitable Rd, Kansas City, MO 64120-1312 | 11-Feb-11 | The firm manufactures aluminum concrete forming systems.

Any party having a substantial interest in these proceedings may request a public hearing on the matter.

A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: February 23, 2011.
Bryan Borlik,
Director.

[FR Doc. 2011-4625 Filed 3-1-11; 8:45 am]

BILLING CODE 3510-24-P